DEPARTMENT OF THE INTERIOR

Bureau of Land Management

[AK040-1410-EQ]

Notice of Realty Action; FLPMA Section 302 Lease, Goodnews River, AK

AGENCY: Bureau of Land Management, Interior.

ACTION: Notice of realty action.

SUMMARY: The State of Alaska, Department of Fish & Game (proponent) submitted a proposal for a land use authorization to continue operating a salmon weir and associated camp on public land pursuant to Section 302 of the Federal Land Policy and Management Act of 1976 and regulations at Title 43 CFR 2920. The land, consisting of approximately 1 acre, is on the Middle Fork of the Goodnews River approximately 10 miles upstream from the village of Goodnews Bay: located within a portion of the NW1/4SW1/4 of Section 3, T. 12 S., R. 72 W., Seward Meridian.

DATES: Interested parties may submit comments until July 22, 2005.

ADDRESSES: Mail comments to Gary Reimer, Field Manager, Anchorage Field Office, 6881 Abbott Loop Road, Anchorage, Alaska 99507-2599.

FOR FURTHER INFORMATION CONTACT: Carl Persson, (907) 267-1277 or (800) 478-1263.

SUPPLEMENTARY INFORMATION: This is a notice of a proposal for a land use authorization. No additional proposals will be accepted. The proponent will reimburse the United States for reasonable administrative fees and other costs incurred by the United States in processing the proposed authorization. The proposed authorization would authorize the proponent's improvements to remain on the land.

1 Fish weir consisting of a 130 ft resistance board weir

2 Wall tents

1 Weatherport tent

1 Wooden steam bath

Various camp structures such as wooden tables, grated walking platforms, work benches and storage shelving

1 Wooden outhouse

The proposed authorization would be offered to the Applicant for a term of 10 years and would require rent to be paid to the United States at fair market value. In the absence of a timely objection, this proposal may become the final decision of the Department of the Interior.

Clinton Hanson,
Acting Field Manager, Anchorage Field Office.

[FR Doc. 05-11202 Filed 6-6-05; 8:45 am]

BILLING CODE 4310-JA-P